DEPARTMENT OF AGRICULTURE

Food and Nutrition Service

Agency Information Collection Activities: Proposed Collection; Comment Request—Performance Standards and Reporting for Supplemental Nutrition Assistance Program Modernization Initiatives

AGENCY: Food and Nutrition Service (FNS), USDA.

ACTION: Notice.

SUMMARY: In accordance with the Paperwork Reduction Act of 1995, this notice invites the general public and other public agencies to comment on this proposed information collection. This collection is a new collection for Performance Standards and Reporting for the Supplemental Nutrition Assistance Program (SNAP) Modernization Initiatives.

DATES: Written comments must be received on or before November 23, 2009.

ADDRESSES: Comments are invited on: (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Director, Office of Research and Analysis, U.S. Department of Agriculture, Food and Nutrition Service, 3101 Park Center Drive, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION:

Title: Performance Standards and Reporting for Supplemental Nutrition Assistance Program Modernization Initiatives.

OMB No.: Not yet assigned.

Expiration Date: Not yet determined.

Type of Request: New collection.

Abstract: The profile of SNAP participants has changed to include an increasing number of working families, resulting in efforts by many States to modernize SNAP to improve access among eligible households and increase operational efficiency, while maintaining payment accuracy. In addition, there is a trend for government services to adopt business procedures that promise better service and more efficiency. Finally, reduced resources and budget constraints are leading many States to look for approaches that reduce administrative costs while maintaining or improving client services.

Modernization adjusts the traditional SNAP administration procedures, and it introduces new avenues of access to benefits. Section 4116 of the Food, Conservation, and Energy Act of 2008 (Pub. L. 110-234) amended Section 11 of the Food and Nutrition Act of 2008, 7 USC 2020, to include a provision for FNS to develop standards for identifying major operational changes and for States to provide any information required by the USDA. While developing such standards is not the focus of this data collection effort, the legislation indicates a high federal priority placed on understanding and measuring efforts to modernize SNAP service delivery.

Modernization creates the opportunity for increased efficiency and improved service delivery, but it also poses potential threats to smooth operations. Although States report some required measures of SNAP access, accuracy, and efficiency to FNS, individual States may supplement the measures and standards with their own efforts to maximize internal accountability and efficiency. FNS has not set performance requirements for most modernization initiatives; hence, the Agency has requisitioned this study in order to better understand how States are assessing performance of their modernization initiatives.

To assess the existing modernization activities underway in each State, FNS plans to study SNAP performance measurement in all 50 States and the District of Columbia. Data collection will include a survey, telephone and in-person interviews, and administrative records collection from State and local SNAP offices, and SNAP community business and not-for-profit partners.

Affected Public: State, Local or Tribal Government; Businesses or other for-profits; Not-for-profit institutions. Respondent groups identified include: (1) State and local SNAP offices; (2) SNAP community business and not-for-profit partners.

Estimated Number of Respondents: The total estimated number of respondents is 913. This includes: 178 State and District of Columbia SNAP office staff, 400 county and local SNAP office staff, and 335 SNAP partners at local community organizations and businesses.

Estimated Number of Responses per Respondent: The estimated number of responses per respondent is one to four, depending on the respondent.

Thirty State and District of Columbia SNAP office staff will participate in all four responses for this study, including the survey, the telephone and in-person interviews, and the records collection. From the State and District of Columbia SNAP offices, 98 staff members will participate in everything except the in-person interviews. Twenty staff members will participate in the survey and records collection, and 25 staff will only participate in in-person interviews on site.

Similarly, 40 county and local SNAP office staff will be asked to complete all four components of the study. Two people at each site, minus the 40 who will complete all four study components (for a total of 260 respondents) will participate in the survey, the telephone interview, and the records collection, but will not receive the in-person interviews. A total of approximately 50 county and local SNAP office staff will participate in in-person interviews only.

Twenty staff from SNAP partners will also be asked to respond to a phone interview, to participate in in-person interviews, and to provide available data records from the past 12 months. For SNAP partners, 163 staff members will be invited to participate in a telephone interview, and those participants will also be asked to conduct the records collection. Another 30 SNAP partners will participate in in-person interviews, but not in the other study components..

Estimated Time per Response: The estimated time of response varies from 10 minutes (0.167 hours) to 4 hours, depending on the respondent and type of instrument, as shown in the table below.

Estimated Total Annual Burden on Respondents: 3184.48 hours.

Annual Burden Estimate
Response category | Estimated number of respondents ᵃ | Estimated average number of hours per response ᵇ | Estimated total hours
State and District of Columbia SNAP Office Staff
Survey | 153 | 1.37 | 209.90
Telephone Interview | 128 | 1.54 | 197.11
In-person Interview | 55 | 1.55 | 85.17
Records Collection | 153 | 1.35 | 206.49
Total | 498 |  | 698.67
Local and County SNAP Officials
Survey | 350 | 1.80 | 630.06
Telephone Interview | 300 | 1.55 | 465.03
In-person Interview | 90 | 0.63 | 56.67
Records Collection | 300 | 2.02 | 607.01
Total | 1,040 |  | 1,758.77
SNAP Partners
Telephone Interview | 264 | 0.77 | 201.99
In-person Interview | 30 | 1.04 | 31.34
Records Collection | 244 | 2.02 | 493.17
Total | 538 |  | 727.04
Grand Total | 2,076 |  | 3,184.48
ᵃ For this collection, the estimated number of respondents and total annual responses are the same, as all data collection will occur within the span of one year. While respondents will be invited to submit no more than one response in each response category (responses annually per respondent is equal to one for each category), individual respondents may be involved in more than one aspect of this collection (so, some respondents may participate in both the survey and the in-person interview).
ᵇ This average includes time burden incurred by nonresponders for reviewing the invitation to participate in the collection and informational materials as well as time that responders spend submitting information under each category.

Dated: September 16, 2009.
Julia Paradis,
Administrator, Food and Nutrition Service.

[FR Doc. E9-23123 Filed 9-23-09; 8:45 am]

BILLING CODE 3410-30-P